DEPARTMENT OF DEFENSE

Office of the Secretary

Board of Regents, Uniformed Services University of the Health Sciences; Notice of Location Change for Federal Advisory Committee Meeting

AGENCY: Under Secretary of Defense for Personnel and Readiness (USD(P&R)), Department of Defense (DoD).

ACTION: Notice of change in location for Federal advisory committee meeting.

SUMMARY: On September 29, 2023, the DoD published a notice announcing the next meeting of the Board of Regents, Uniformed Services University of the Health Sciences (BoR USUHS) on October 20, 2023, from 12:30 p.m. to 5 p.m. (EST). The DoD is publishing this notice to announce that this Federal advisory committee meeting location has changed to the Cocoa Terrace Conference Room, Hershey Lodge, 325 University Drive, Hershey, PA 17033 due to challenges with the previously published meeting location.

DATES: Friday, October 20, 2023, open to the public from 12:30 p.m. to 5 p.m. (EST).

ADDRESSES: Cocoa Terrace Conference Room, Hershey Lodge, 325 University Drive, Hershey, PA 17033. The meeting will be held both in-person and virtually. Members of the public wishing to attend the meeting in-person or virtually should contact Ms. Angela Bee via email at bor@usuhs.edu.

FOR FURTHER INFORMATION CONTACT: Ms. Annette Askins-Roberts, Designated Federal Officer (DFO), at (301) 295-3066, or bor@usuhs.edu. Mailing address is 4301 Jones Bridge Road, Bethesda, MD 20814. Website: https://www.usuhs.edu/ao/board-of-regents.

SUPPLEMENTARY INFORMATION: Due to circumstances beyond the control of the Department of Defense and the Designated Federal Officer, the BoR USUHS was unable to provide sufficient public notification required by 41 CFR 102-3.150(a) regarding the change in location of its October 20, 2023 meeting. Accordingly, the Advisory Committee Management Officer for the Department of Defense, pursuant to 41 CFR 102-3.150(b), waives the 15-calendar day notification requirement.

Dated: October 12, 2023.
Aaron T. Siegel,
Alternate OSD Federal Register Liaison Officer, Department of Defense.

[FR Doc. 2023-23012 Filed 10-18-23; 8:45 am]

BILLING CODE 6001-FR-P